NUCLEAR REGULATORY COMMISSION

NRC Regulatory Issue Summary 2007-26, Implementation of Certification of Compliance Amendments to Previously Loaded Spent Fuel Storage Casks (RIS 2007-26)

AGENCY: Nuclear Regulatory Commission.

ACTION: Notice of meeting; solicitation of public comments.

SUMMARY: The Nuclear Regulatory Commission (NRC) will host a meeting with the public to receive comments on NRC Regulatory Issue Summary 2007-26, Implementation of Certification of Compliance Amendments to Previously Loaded Spent Fuel Storage Casks (RIS 2007-26).

Purpose: To serve as a forum for members of the public to provide oral comments on RIS 2007-26 published for comment in the Federal Register on January 14, 2008 (73 FR 2281).

DATES: Friday, February 29, 2008, from 9:30 a.m. to 11:30 a.m.

ADDRESSES: 6003 Executive Boulevard, Rockville, Maryland 20852, Room 1B13.

Meeting Agenda: I. Welcome, Introductions, and Purpose of Meeting (10 minutes); II. Describe RIS 2007-26 and Other Associated NRC Actions (20 minutes); and III. Receive Comments and Address Questions (remaining time).

FOR FURTHER INFORMATION CONTACT: Stewart Brown, e-mail address: swb1@nrc.gov (301), telephone number: (301) 492-3317.

Conduct of the Meeting

This is a Category 3 Meeting. The public is invited to participate in this meeting providing comments and asking questions throughout the meeting. The NRC's Policy Statement, “Enhancing Public Participation on NRC Meetings,” effective May 28, 2002, applies to this meeting (67 FR 36920). The policy statement may be found on the NRC Web site, http://www.nrc.gov, and contains information regarding visitors and security. The NRC provides reasonable accommodation to individuals with disabilities where appropriate. If a member of the public needs a reasonable accommodation to participate in the meeting, or needs the meeting notice or the transcript or other information from the meeting in another format (e.g., Braille, large print), please notify the NRC's meeting contact. Determinations on requests for reasonable accommodations will be made on a case-by-case basis.

Dated at Rockville, Maryland, this 14th day of February 2008.
For the Nuclear Regulatory Commission.
Stewart W. Brown,
Senior Project Manager, Licensing Branch, Division of Spent Fuel Storage and Transportation, Office of Nuclear Material Safety and Safeguards.

[FR Doc. E8-3213 Filed 2-20-08; 8:45 am]

BILLING CODE 7590-01-P